DEPARTMENT OF COMMERCE

Membership of the Departmental Performance Review Board

AGENCY: Department of Commerce.

ACTION: Notice of Membership on the Departmental Performance Review Board.

SUMMARY: In accordance with 5 U.S.C., 4314(c)(4), Department of Commerce (DOC) announces the appointment of persons to serve as members of the Departmental Performance Review Board (DPRB). The DPRB provides an objective peer review of the initial performance ratings, performance-based pay adjustments and bonus recommendations, higher-level review requests and other performance-related actions submitted by appointing authorities for Senior Executive Service (SES) members whom they directly supervise, and makes recommendations based upon its review. The term of the new members of the DPRB will expire December 31, 2016.

DATES: Effective Date: The effective date of service of appointees to the Departmental Performance Review Board is based upon publication of this notice.

FOR FURTHER INFORMATION CONTACT: Denise A. Yaag, Director, Office of Executive Resources, Office of Human Resources Management, Office of the Director, 14th and Constitution Avenue NW., Washington, DC 20230, (202) 482-3600.

SUPPLEMENTARY INFORMATION: The names and position titles of the members of the DPRB are set forth below by organization:

Department of Commerce, Departmental Performance Review Board Membership, 2014-2016

Office of the Secretary

Theodore C.Z. Johnston, Director, Office of White House Liaison (Noncareer)

Office of General Counsel

Barbara S. Fredericks, Assistant General Counsel for Administration (Career)

Barry K. Robinson, Chief Counsel for Economic Affairs (Career)

Office of the Chief Financial Officer and Assistant Secretary for Administration

Gordon T. Alston, Director, Financial Reporting and Intemal Controls (Career)

Tammy L. Journet, Deputy for Procurement Management, Policy and Performance Excellence (Career)

Michael E. Phelps, Director, Office of Budget (Career)

Gay G. Shrum, Director for Administrative Programs (Career)

Frederick E. Stephens, Deputy Assistant Secretary for Administration (Noncareer)

Bureau of Industry and Security

Kathryn Chantry, Chief Financial Officer and Director of Administration (Career)

Bureau of the Census

Douglas R. Clift, Senior Advisor for Project Management (Career)

Joanne Buenzli Crane, Associate Director for Administration and Chief Financial Officer (Career)

Michael L. Palensky, Chief, Acquisition Division (Career)

Nancy Potok, Deputy Director (Career)

Economics and Statistics Administration

Kenneth A. Arnold, Associate Under Secretary for Management (Career)

Economics and Development Administration

Thomas Guevara, Deputy Assistant Secretary for Regional Affairs (Career)

International Trade Administration

Kenneth J.E. Hyatt, Deputy Under Secretary for International Trade (Career)

Maureen R. Smith, Deputy Assistant Secretary for Industry and Analysis (Career)

Minority Business Development Agency

Alejandra Y. Castillo, Deputy Director (Noncareer)

Edith J. McCloud, Associate Director for Management (Career)

National Oceanic and Atmospheric Administration

Holly A. Bamford, Assistant Administrator for Ocean Services and Coastal Zone Management (Career)

Edward C. Horton, Chief Administrative Officer (Career)

Mark S, Paese, Deputy Assistant Administrator, NESDIS (Career)

Lois J. Schiffer, General Counsel, NOAA Holly A. Bamford, Assistant

Administrator for Ocean Services and Coastal Zone Management (Noncareer)

Russell F. Smith, III, Deputy Assistant Secretary for International Fisheries (Noncareer)

National Technical Information Service

Bruce E. Borzino, Director, National Technical Information Service (Career)

National Telecommunications and Information Administration

Leonard M. Bechtel, Chief Financial Officer and Director for Administration (Career)

National Institute of Standards and Technology

Richard F. Kayser, Jr., Chief Safety Officer (Career)

Mary H. Saunders, Associate Director for Management Resources (Career)

Dated: October 2, 2014.
Denise A. Yaag,
Director, Office of Executive Resources.

[FR Doc. 2014-23957 Filed 10-8-14; 8:45 am]

BILLING CODE 3510-BS-M